DEPARTMENT OF COMMERCE

National Oceanic and Atmospheric Administration

[I.D. 111204B]

North Pacific Fishery Management Council; Notice of Public Meeting

AGENCY: National Marine Fisheries Service (NMFS), National Oceanic and Atmospheric Administration (NOAA), Commerce.

ACTION: Notice of meetings of the North Pacific Fishery Management Council Gulf Rationalization Community Committee.

SUMMARY: The North Pacific Fishery Management Council (Council) Gulf Rationalization Community Committee will meet at the Captain Cook Hotel.

DATES: The Gulf Rationalization Community Committee will be held December 3, 2004, 8 a.m. - 5 p.m.

ADDRESSES: Captain Cook Hotel, Voyager Room, 4 and K Street, Anchorage, AK.

Council address: North Pacific Fishery Management Council, 605 W. 4th Ave., Suite 306, Anchorage, AK 99501-2252.

FOR FURTHER INFORMATION CONTACT: Nicole Kimball, Council staff, Phone: 907-271-2809.

SUPPLEMENTARY INFORMATION: The Council tasked the committee with considering several specific design and implementation issues related to each program, including: the community eligibility criteria, determining who represents the community, determining how the quota may be used, criteria by which the entity decides which individuals fish the shares, restrictions on sale of quota share under purchase program, use caps and harvest share designations, determining the distribution method among eligible communities, how the Community Fisheries Quota (CFQ) Program and Community Purchase Program (CPP) would work in combination, and how the CFQ program and CPP program would work under Alternative 3.

Although non-emergency issues not contained in this notice may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: November 12, 2004.
Bruce C. Morehead,
Acting Director, Office of Sustainable Fisheries, National Marine Fisheries Service.

[FR Doc. 04-25644 Filed 11-17-04; 8:45 am]

BILLING CODE 3510-22-S